DEPARTMENT OF AGRICULTURE

Animal and Plant Health Inspection Service

9 CFR Part 2

[Docket No. APHIS-2011-0003]

RIN 0579-AD57

Animal Welfare; Retail Pet Stores and Licensing Exemptions; Technical Amendment

AGENCY: Animal and Plant Health Inspection Service, USDA.

ACTION: Final rule; technical amendment.

SUMMARY: In a final rule published in the Federal Register on September 18, 2013, and effective on November 18, 2013, we amended the regulations concerning the definition of retail pet store and related regulations in order to ensure that the definition in the regulations is consistent with the Animal Welfare Act (AWA), thereby bringing more pet animals sold at retail under the protection of the AWA. As part of that action, we raised from three to four the maximum number of female breeding dogs, cats, or certain other animals that a person can maintain and be exempted from licensing, as long as they sell only the offspring of those animals born and raised on their premises for pets or exhibition and are not otherwise required to obtain a license. In the final rule, we overlooked raising the number of breeding females in one provision in the regulations concerning animal purchases by dealers and exhibitors. This document corrects the oversight.

DATES: Effective January 23, 2015.

FOR FURTHER INFORMATION CONTACT: Dr. Gerald Rushin, Veterinary Medical Officer, Animal Care, APHIS, 4700 River Road Unit 84, Riverdale, MD 20737-1236; (301) 851-3751.

SUPPLEMENTARY INFORMATION: In a final rule ¹ that was published in the Federal Register on September 18, 2013 (78 FR 57227-57250, Docket No. APHIS-2011-0003), and effective on November 18, 2013, we amended the regulations concerning the definition of retail pet store and related regulations in order to ensure that the definition of retail pet store in the regulations is consistent with the Animal Welfare Act (AWA), thereby bringing more pet animals sold at retail under the protection of the AWA.

¹ To view the rule, supporting analyses, and comments we received, go to http://www.regulations.gov/#!docketDetail;D=APHIS-2011-0003.

As part of that action, in § 2.1(a)(3) we changed from three to four the maximum number of female breeding dogs or cats that a person can maintain and be exempted from licensing, so long as they sell only the offspring of those animals born and raised on their premises for pets or exhibition and are not otherwise required to obtain a license. In the final rule, we overlooked raising the number of breeding females in § 2.132(d) from three to four with respect to licensing exemption provisions for persons selling cats, dogs, or certain other animals to dealers or exhibitors. This document corrects the oversight.

List of Subjects in 9 CFR Part 2

Animal welfare, Pets, Reporting and recordkeeping requirements, Research.

Accordingly, 9 CFR part 2 is amended as follows:

PART 2—REGULATIONS

1. The authority citation for part 2 continues to read as follows:

Authority: 7 U.S.C. 2131-2159; 7 CFR 2.22, 2.80, and 371.7.

§ 2.132 [Amended]

2. In § 2.132, paragraph (d) is amended by removing the word “three” and adding the word “four” in its place.

Done in Washington, DC, this 16th day of January 2015.
Kevin Shea,
Administrator, Animal and Plant Health Inspection Service.

[FR Doc. 2015-01149 Filed 1-22-15; 8:45 am]

BILLING CODE 3410-34-P